DEPARTMENT OF ENERGY

Federal Energy Regulatory Commission

[Docket No. CP12-488-000]

Carolina Gas Transmission Corporation; Notice of Request Under Blanket Authorization

Take notice that on July 25, Carolina Gas Transmission Corporation (Carolina Gas), 601 Old Taylor Road, Cayce, South Carolina 29033, filed in Docket No. CP12-488-000, an application pursuant to sections 157.205 and 157.210 of the Commission's Regulations under the Natural Gas Act (NGA) as amended, to convert three existing standby compressor units at its Grover Compressor Station in Cherokee County, South Carolina, to base load service under Carolina Gas' blanket certificate issued in Docket Nos. CP06-71-000 et al.,¹ all as more fully set forth in the application which is on file with the Commission and open to the public for inspection.

¹ 116 FERC ¶ 61,049 (2006).

Carolina Gas proposes to convert three existing standby 1,050 horsepower (HP) Solar Saturn turbine compressor units to base load service at the Grover Compressor Station. Carolina Gas states that it would convert the three standby compressor units to base load service in order to provide additional firm transportation capacity to three customers who have requested additional capacity on Carolina Gas' system. Carolina Gas also states that no construction, abandonment, or earth disturbance would be involved with this proposal. Carolina Gas estimates that the proposed compressor conversions would cost $85,000 to implement.

Any questions concerning this application may be directed to Randy D. Traylor, Jr., Manager—System Planning, Carolina Gas Transmission Corporation, 601 Old Taylor Road, Cayce, South Carolina 29033, telephone (803) 217-2255, or by Email: dtraylor@scana.com.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to Section 7 of the NGA.

Dated: August 7, 2012.
Kimberly D. Bose,
Secretary.

[FR Doc. 2012-19784 Filed 8-10-12; 8:45 am]

BILLING CODE 6717-01-P